DEPARTMENT OF HOUSING AND URBAN DEVELOPMENT

[Docket No. FR-7096-N-01]

60-Day Notice of Proposed Information Collection: Maintenance Wage Rate Recommendation

AGENCY: Office of Field Policy and Management, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments due May 27, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Anna Guido, Clearance Officer, REE, Department of Housing and Urban Development, 451 7th Street SW, Room 8210, Washington, DC 20410-5000.

FOR FURTHER INFORMATION CONTACT: Nathan Roush, Program Analyst, FPM, Department of Housing and Urban Development, 75 Ted Turner Dr. SW, Atlanta, GA 30303; email Nathan.A.Roush@hud.gov; telephone (678) 732-2250. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Nathan Roush.

SUPPLEMENTARY INFORMATION: This notice informs the public that HUD is seeking approval from OMB for the information collection described in Section A.

A. Overview of Information Collection

Title of Information Collection: Maintenance Wage Rate Recommendation.

OMB Approval Number: 2501-0011.

Type of Request: Reinstatement without changes.

Form Number: HUD-4750, HUD-4751, HUD-4752.

Description of the need for the information and proposed use: The U.S. Department of Housing and Urban Development (HUD), Office of Davis-Bacon and Labor Standards (DBLS) is responsible for the administration and enforcement of prevailing maintenance wage rate requirements in low-income and affordable housing operations. Employers must pay HUD-determined or adopted prevailing maintenance wage rates (MWDs) to maintenance laborers and mechanics that they employ in the operation of certain Public, Tribal, and Hawaiian Home Lands public housing projects, as follows:

a. Low-income housing operated by Public Housing Agencies (PHA) as defined by the U.S. Housing Act of 1937 (USHA) as amended, pursuant to Section 12(a).

b. Affordable housing operated by Indian tribes and/or Tribally Designated Housing Entities (TDHE) as defined by the Native American Housing Assistance and Self-Determination Act of 1996 (NAHASDA) as amended, pursuant to Section 104(b).

c. Affordable housing operated by the Department of Hawaiian Home Lands (DHHL) as defined by NAHASDA as amended, pursuant to Section 805(b).

HUD uses information collected from forms 4750-4752 to determine or adopt prevailing wage rates for maintenance laborers and mechanics employed on low income and affordable housing projects subject to Federal labor standards provisions.

Respondents: HUD Local Contracting Agencies.

Estimated Number of Respondents: 3,647.

Estimated Number of Responses: 3,647.

Frequency of Response: 1.00 per annum.

Average Hours per Response: 8.00 hours.

Total Estimated Burdens: 9,560.00 hours.

Information collection | Number of respondents | Frequency of response | Responses per annum | Burden hours per response | Annual burden hours | Hourly cost per response | Total cost
HUD—4750 Maintenance Wage Recommendation | 1,381.00 | 1.00 | 1,381.00 | 2.00 | 2762.00 | $48.69 | $134,481.78
HUD—4751 Maintenance Wage Rate Survey | 1,133.00 | 1.00 | 1,133.00 | 2.00 | 2266.00 | 48.69 | 110,331.54
HUD—4752 Maintenance Wage Rate Survey—Summary Sheet | 1,133.00 | 1.00 | 1,133.00 | 4.00 | 4532.00 | 48.69 | 220,663.08
Total | 3,647.00 |  | 3,647.00 | 8.00 | 9560.00 | 48.69 | 465,476.40

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Christopher D. Taylor,
Director, Field Policy and Management.

[FR Doc. 2025-05038 Filed 3-25-25; 8:45 am]

BILLING CODE 4210-67-P